DEPARTMENT OF THE TREASURY

Submission for OMB Review; Comment Request

August 9, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before September 20, 2000 to be assured of consideration.

Internal Revenue Service (IRS)

OMB Number: 1545-0975.

Form Number: IRS Form 1120-W.

Type of Review: Revision.

Title: Estimated Tax for Corporations.

Description: Form 1120-W is used by corporations to figure estimated tax liability and the amount of each installment payment. Form 1120-W is a worksheet only. It is not to be filed with the Internal Revenue Service.

Respondents: Business or other for-profit.

Estimated Number of Respondents/Recordkeepers: 900,000.

Estimated Burden Hours Per Respondent/Recordkeeper:

Form | Recordkeeping | Learning about the law or the form | Preparing the form
1120-W | 7 hr., 53 min. | 1 hr., 12 min. | 1 hr., 22 min.
1120-W, Sched. A (Part I) | 11 hr., 14 min. | 47 min. | 1 hr., 0 min.
1120-W, Sched. A (Part II) | 23 hr., 26 min. | 18 min. | 41 min.
1120-W, Sched. A (Part III) | 5 hr., 15 min. | 0 min. | 5 min.

Frequency of response: Annually.

Estimated Total Reporting/Recordkeeping Burden: 9,469,690 hours.

OMB Number: 1545-1538.

Notice Number: Notice 97-34.

Type of Review: Extension.

Title: Information Reporting on Transactions With Foreign Trusts and on Large Foreign Gifts.

Description: This notice provide guidance on the foreign trust and foreign gift information reporting provisions contained in the Small Business Job Protection Act of 1996.

Respondents: Business or other for-profit, Individuals or households, Not-for-profit institutions.

Estimated Number of Respondents/Recordkeepers: 5,000.

Estimated Burden Hours Per Respondent/Recordkeeper: 45 minutes.

Frequency of response: Annually.

Estimated Total Reporting/Recordkeeping Burden: 3,750 hours.

Clearance Officer: Garrick Shear, Internal Revenue Service, Room 5244, 1111 Constitution Avenue, NW., Washington, DC 20224.

OMB Reviewer: Alexander T. Hunt (202) 395-7860, Office of Management and Budget, Room 10202, New Executive Office Building, Washington, DC 20503.

Lois K. Holland,
Departmental Reports Management Officer.

[FR Doc. 00-21143 Filed 8-18-00; 8:45 am]

BILLING CODE 4830-01-P